FEDERAL MARITIME COMMISSION

[Docket No. 20-07]

Waiver of Certain Filing Requirements Due to Covid19; Order

Served: May 12, 2020.

Because of challenges associated with COVID-19, the Commission is temporarily waiving certain requirements in 46 CFR part 502 related to paper filing of documents, ink signatures, and service by mail of complaints. The expeditious conduct of business requires such temporary waivers, which will prevent undue hardship and manifest injustice and facilitate efficient filing and processing of complaints and other documents while protecting the integrity of Commission proceedings. See 46 CFR 502.10.

Consequently, under 46 CFR 502.10, it is ordered that, until discontinued by subsequent order:

• The Commission waives 46 CFR 502.2(e) to the extent it requires parties to file paper documents or copies of the original, signed document. Filing the original, signed document via email is sufficient.

• The Commission waives 46 CFR 502.2(f)(1), (2). Filing via email of the documents subject to these rules is sufficient.

• The Commission waives 46 CFR 502.2(f)(3) to the extent it requires parties to file paper documents or copies of the original, signed document. The Commission also waives § 502.2(f)(3)'s certification requirement.

• The Commission waives 46 CFR 502.2(j) to the extent it requires filing of an original signed in ink. The Commission retains the requirement that a signed original be provided, but the Commission will accept a scanned signature or electronic signature (i.e., an electronic sound, symbol, or process, attached to or logically associated with a document and executed or adopted by a person with the intent to sign the document).

• The Commission waives 46 CFR 502.5(a)(2)(i) to the extent it prohibits filing a confidential version of a document with the Office of the Secretary by email. Filing via email with the Office of the Secretary is sufficient.

• The Commission waives 46 CFR 502.113(b) to the extent it requires the Secretary to serve the complaint using first class mail or express mail service. The Secretary must serve the complaint but may do so via email or first class mail or express mail.

It is finally ordered, that notice of this Order be published in the Federal Register.

By the Commission.
Rachel Dickon,
Secretary.

[FR Doc. 2020-10769 Filed 5-18-20; 8:45 am]

BILLING CODE 6730-02-P